DEPARTMENT OF TRANSPORTATION

National Highway Traffic Safety Administration

Withdrawal of Petition for Exemption From the Federal Motor Vehicle Theft Prevention Standard; DaimlerChrysler

AGENCY: National Highway Traffic Safety Administration (NHTSA), Department of Transportation (DOT).

ACTION: Notice; withdrawal of petition for exemption.

SUMMARY: This notice withdraws the petition by DaimlerChrysler Corporation (DaimlerChrysler) for an exemption from the parts marking requirements of the vehicle theft prevention standard for the Jeep Liberty vehicle line.

FOR FURTHER INFORMATION CONTACT: Ms. Rosalind Proctor, Office of International Policy, Fuel Economy and Consumer Programs, NHTSA, 400 Seventh Street, SW., Washington, DC 20590. Ms. Proctor's phone number is (202) 366-0846. Her fax number is (202) 493-2290.

SUPPLEMENTARY INFORMATION: In a petition dated March 30, 2005, DaimlerChrysler requested an exemption from the parts marking requirements of the theft prevention standard (49 CFR part 541) for the Jeep Liberty vehicle line, beginning with model year (MY) 2006. The petition requested an exemption from the parts marking requirements pursuant to 49 CFR part 543, Exemption from Vehicle Theft Prevention Standard, based on the installation of an antitheft device as standard equipment for the entire vehicle line. On July 12, 2005, the agency granted in full the petition of DaimlerChrysler for exemption of the Jeep Liberty from the parts marking requirements beginning with the 2006 model year. (See 70 FR 40103). Subsequently, DaimlerChrysler requested the agency to withdraw its petition for exemption for the Jeep Liberty vehicle line.

This notice acknowledges DaimlerChrysler's request for withdrawal of its March 30, 2005 petition for exemption. Accordingly, the Jeep Liberty vehicle line remains subject to the parts-marking requirements of 49 CFR part 541.

Authority: 49 U.S.C. 33106; delegation of authority at 49 CFR 1.50.

Issued on: September 1, 2005.
Stephen R. Kratzke,
Associate Administrator for Rulemaking.

[FR Doc. 05-17843 Filed 9-8-05; 8:45 am]

BILLING CODE 4910-59-P